COMMODITY FUTURES TRADING COMMISSION

Chicago Mercantile Exchange: Proposed Amendments to the Live Cattle Futures Contract Restricting Delivery to Cattle Born and Raised in the United States; Reopening of the Public Comment Period

AGENCY: Commodity Futures Trading Commission.

ACTION: Notice of reopening of the public comment period for the proposed amendments to the Chicago Mercantile Exchange's live cattle futures contract restricting delivery to cattle born and raised in the United States.

SUMMARY: In the July 15, 2003, Federal Register (68 FR 41783), the Commodity Futures Trading Commission (Commission) requested public comment on proposed amendments to the live cattle futures contract traded on the Chicago Mercantile Exchange (CME or Exchange). The proposals were submitted for Commission approval pursuant to the provisions of Section 5c(c)(2) of the Commodity Exchange Act (Act) and Commission Regulation 40.5. The proposals will require that all cattle delivered on the futures contract must be born and raised exclusively in the United States, and the seller must provide supporting documentation that conforms to industry standards at the time of delivery. The amendments are contingent upon the promulgation by the United States Department of Agriculture (USDA) of regulations implementing Country Of Origin Labeling (COOL) requirements pursuant to Section 10816 of Public Law 107-171 (the Farm Security and Rural Investment Act of 2002), which by statute is intended to take effect on September 30, 2004. The Exchange intends to apply the amendments to newly listed contract months beginning with the October 2004 contract month.

The comment period for the proposed amendments closed on July 30, 2003. The Commission has received a number of requests for an extension of the time period in which to file comments on the amendments. The Director of the Division of Market Oversight (Division) of the Commission, acting pursuant to the authority delegated by Commission Regulation 140.96, has determined that reopening the comment period to August 22, 2003, is in the public interest, and will assist the Commission in considering the views of interested persons.

DATES: Comments must be received on or before August 22, 2003.

ADDRESSES: Interested persons should submit their views and comments to Jean A. Webb, Secretary, Commodity Futures Trading Commission, Three Lafayette Centre, 1155 21st Street, NW., Washington, DC 20581. In addition, comments may be sent by facsimile transmission to (202) 418-5521 or by electronic mail to secretary@cftc.gov. Reference should be made to “CME Live Cattle Amendments.”

FOR FURTHER INFORMATION CONTACT: Please contact Martin G. Murray of the Division of Market Oversight, Commodity Futures Trading Commission, Three Lafayette Centre, 1155 21st Street, NW., Washington, DC 20581, (202) 418-5276. Facsimile number: (202) 418-5527. Electronic Mail: mmurray@cftc.gov.

Issued in Washington, DC, on August 1, 2003.
Richard A. Shilts,
Deputy Director, Division of Market Oversight.

[FR Doc. 03-20086 Filed 8-4-03; 11:45 am]

BILLING CODE 6351-01-M